DEPARTMENT OF JUSTICE

Drug Enforcement Administration

[Docket No. DEA-392]

Bulk Manufacturer of Controlled Substances Application: AMPAC Fine Chemicals LLC

ACTION: Notice of application.

DATES: Registered bulk manufacturers of the affected basic classes, and applicants therefore, may file written comments on or objections to the issuance of the proposed registration on or before September 30, 2019.

ADDRESSES: Written comments should be sent to: Drug Enforcement Administration, Attention: DEA Federal Register Representative/DPW, 8701 Morrissette Drive, Springfield, Virginia 22152.

SUPPLEMENTARY INFORMATION:

In accordance with 21 CFR 1301.33(a), this is notice that on March 18, 2019, AMPAC Fine Chemicals LLC, Highway 50 and Hazel Avenue, Building 05001, Rancho Cordova, California 95670 applied to be registered as bulk manufacturer of the following basic classes of controlled substances:

Controlled substance | Drug code | Schedule
Methylphenidate | 1724 | II
Levomethorphan | 9210 | II
Levorphanol | 9220 | II
Thebaine | 9333 | II
Tapentadol | 9780 | II
Remifentanil | 9739 | II

The company plans to manufacture the listed controlled substances for distribution to its customers.

Dated: July 16, 2019.
John J. Martin,
Assistant Administrator.

[FR Doc. 2019-16177 Filed 7-29-19; 8:45 am]

BILLING CODE 4410-09-P